DEPARTMENT OF HOMELAND SECURITY

Federal Emergency Management Agency

[Docket ID FEMA-2020-0002; Internal Agency Docket No. FEMA-B-2043]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Jefferson | City of Arvada (19-08-0970P). | The Honorable Marc Williams, Mayor, City of Arvada, 8101 Ralston Road, Arvada, CO 80002. | Engineering Department, 8101 Ralston Road, Arvada, CO 80002. | https://msc.fema.gov/portal/advanceSearch. | Oct. 9, 2020 | 085072
Jefferson | Unincorporated areas of Jefferson County (19-08-0970P). | The Honorable Lesley Dahlkemper, Chair, Jefferson County, Board of Commissioners, 100 Jefferson County Parkway, Golden, CO 80419. | Jefferson County Department of Planning and Zoning, 100 Jefferson County Parkway, Suite 3550, Golden, CO 80419. | https://msc.fema.gov/portal/advanceSearch. | Oct. 9, 2020 | 080087
Florida:
Clay | Unincorporated areas of Clay County (20-04-0028P). | The Honorable Gayward Hendry, Chairman, Clay County, Board of Commissioners, P.O. Box 1366, Green Cove Springs, FL 32043. | Clay County Development Services Department, 477 Houston Street, Green Cove Springs, FL 32043. | https://msc.fema.gov/portal/advanceSearch. | Sep. 25, 2020 | 120064
Collier | Unincorporated areas of Collier County (20-04-1400P). | Mr. Burt L. Saunders, Chairman, Collier County Board of Commissioners, 3299 Tamiami Trail East, Suite 303, Naples, FL 34112. | Collier County Growth Management Department, 2800 North Horseshoe Drive, Naples, FL 34104. | https://msc.fema.gov/portal/advanceSearch. | Sep. 25, 2020 | 120067
Lee | City of Sanibel (19-04-6092P). | The Honorable Kevin Ruane, Mayor, City of Sanibel, 800 Dunlop Road, Sanibel, FL 33957. | Community Services Department, 800 Dunlop Road, Sanibel, FL 33957. | https://msc.fema.gov/portal/advanceSearch. | Sep. 25, 2020 | 120402
Monroe | Unincorporated areas of Monroe County (20-04-2043P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Sep. 21, 2020 | 125129
Osceola | Unincorporated areas of Osceola County (19-04-6034P). | The Honorable Viviana Janer, Chair, Osceola County Board of Commissioners, 1 Courthouse Square, Suite 4700, Kissimmee, FL 34741. | Osceola County Stormwater Department, 1 Courthouse Square, Suite 3100, Kissimmee, FL 34741. | https://msc.fema.gov/portal/advanceSearch. | Sep. 25, 2020 | 120189
Sarasota | Town of Longboat Key (20-04-1892P). | Mr. Tom Harmer, Manager, Town of Longboat Key, 501 Bay Isles Road, Longboat Key, FL 34228. | Planning, Zoning and Building Department 600 General Harris Street, Longboat Key, FL 34228. | https://msc.fema.gov/portal/advanceSearch. | Sep. 28, 2020 | 125126
Sarasota | Unincorporated areas of Sarasota County (20-04-1846P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Sep. 30, 2020 | 125144
Massachusetts: Essex | Town of Rockport (20-01-0536P). | The Honorable Paul F. Murphy, Chairman, Town of Rockport Board of Selectmen, 34 Broadway, Rockport, MA 01966. | Department of Inspection Services, 34 Broadway, Rockport, MA 01966. | https://msc.fema.gov/portal/advanceSearch. | Sep. 17, 2020 | 250100
Maine:
Washington | Town of Alexander (20-01-0495P). | The Honorable Foster Carlow Jr., Chairman, Town of Alexander Board of Selectmen, 50 Cooper Road, Alexander, ME 04694. | Town Hall, 50 Cooper Road, Alexander, ME 04694. | https://msc.fema.gov/portal/advanceSearch. | Oct. 19, 2020 | 230303
Washington | Town of Baileyville (20-01-0495P). | Mr. Chris Loughlin, Town of Baileyville Manager, P.O. Box 370, Baileyville, ME 04694. | Town Hall, 63 Broadway, Baileyville, ME 04694. | https://msc.fema.gov/portal/advanceSearch. | Oct. 19, 2020 | 230304
Washington | Town of Baileyville (20-01-0623P). | Mr. Chris Loughlin, Town of Baileyville Manager, P.O. Box 370, Baileyville, ME 04694. | Town Hall, 63 Broadway, Baileyville, ME 04694. | https://msc.fema.gov/portal/advanceSearch. | Oct. 15, 2020 | 230304
Washington | Town of Princeton (20-01-0495P). | The Honorable Scott Carle, Chairman, Town of Princeton Board of Selectmen, P.O. Box 408, Princeton, ME 04668. | Town Hall, 15 Depot Street, Princeton, ME 04668. | https://msc.fema.gov/portal/advanceSearch. | Oct. 19, 2020 | 230320
Washington | Town of Princeton (20-01-0623P). | The Honorable Scott Carle, Chairman, Town of Princeton Board of Selectmen, P.O. Box 408, Princeton, ME 04668. | Town Hall, 15 Depot Street, Princeton, ME 04668. | https://msc.fema.gov/portal/advanceSearch. | Oct. 15, 2020 | 230320
Washington | Town of Vanceboro (20-01-0424P). | The Honorable Harold J. Jordan, Chairman, Town of Vanceboro Board of Selectmen, P.O. Box 24, Vanceboro, ME 04491. | Town Hall, 101 High Street, Vanceboro, ME 04491. | https://msc.fema.gov/portal/advanceSearch. | Oct. 16, 2020 | 230325
Washington | Township of Lambert Lake (20-01-0424P). | Ms. Stacie Beyer, Chief Planner, Land Use Planning Commission, Township of Lambert Lake, 18 Elkins Lane, Augusta, ME 04333. | Township Hall, 18 Elkins Lane, Augusta, ME 04333. | https://msc.fema.gov/portal/advanceSearch. | Oct. 16, 2020 | 230472
Pennsylvania: Washington | Township of Union (20-03-1148P). | The Honorable Heather Daerr, Chair, Township of Union Board of Supervisors, 3904 Finleyville- Elrama Road, Finleyville, PA 15332. | Township Hall, 3904 Finleyville- Elrama Road, Finleyville, PA 15332. | https://msc.fema.gov/portal/advanceSearch. | Oct. 8, 2020 | 420860
Texas:
Collin | City of Celina (19-06-2644P). | The Honorable Sean Terry, Mayor, City of Celina, 142 North Ohio Street, Celina, TX 75009. | City Hall, 142 North Ohio Street, Celina, TX 75009. | https://msc.fema.gov/portal/advanceSearch. | Oct. 13, 2020 | 480133
Collin | Unincorporated areas of Collin County (19-06-2644P). | The Honorable Chris Hill, Collin County Judge, 2300 Bloomdale Road, Suite 4192, McKinney, TX 75071. | Collin County Engineering Department, 4690 Community Avenue, Suite 200, McKinney, TX 75071. | https://msc.fema.gov/portal/advanceSearch. | Oct. 13, 2020 | 480130
Denton | City of Denton (20-06-2308P). | The Honorable Chris Watts, Mayor, City of Denton, 215 East McKinney Street, Denton, TX 76201. | Engineering Department, 901-A Texas Street, Denton, TX 76209. | https://msc.fema.gov/portal/advanceSearch. | Oct. 8, 2020 | 480194
Denton | Town of Argyle (19-06-2972P). | The Honorable Donald Moser, Mayor, Town of Argyle, P.O. Box 609, Argyle, TX 76226. | Town Hall, 308 Denton Street, Argyle, TX 76226. | https://msc.fema.gov/portal/advanceSearch. | Oct. 9, 2020 | 480775
Denton | Unincorporated areas of Denton County (20-06-2308P). | The Honorable Andy Eads, Denton County Judge, 110 West Hickory Street, 2nd Floor, Denton, TX 76201. | Denton County Public Works-Engineering Department, 1505 East McKinney Street, Suite 175, Denton, TX 76209. | https://msc.fema.gov/portal/advanceSearch. | Oct. 8, 2020 | 480774
Harris | Unincorporated areas of Harris County (19-06-1346P). | The Honorable Lina Hidalgo, Harris County Judge, 1001 Preston Street, Suite 911, Houston, TX 77002. | Harris County Permit Department, 10555 Northwest Freeway, Suite 120, Houston, TX 77092. | https://msc.fema.gov/portal/advanceSearch. | Sep. 21, 2020 | 480287
Midland | City of Midland (19-06-2755P). | The Honorable Patrick Payton, Mayor, City of Midland, 300 North Loraine Street, Midland, TX 79701. | City Hall, 300 North Loraine Street, Midland, TX 79701. | https://msc.fema.gov/portal/advanceSearch. | Oct. 15, 2020 | 480477
Midland | City of Midland (19-06-3901P). | The Honorable Patrick Payton, Mayor, City of Midland, 300 North Loraine Street, Midland, TX 79701. | City Hall, 300 North Loraine Street, Midland, TX 79701. | https://msc.fema.gov/portal/advanceSearch. | Oct. 26, 2020 | 480477
Tarrant | City of Haslet (19-06-2524P). | The Honorable Bob Golden, Mayor, City of Haslet, 101 Main Street, Haslet, TX 76052. | Engineering and Public Works Department, 101 Main Street, Haslet, TX 76052. | https://msc.fema.gov/portal/advanceSearch. | Oct. 15, 2020 | 480600
Virginia:
Frederick | City of Winchester (20-03-0437P). | The Honorable John David Smith, Jr., Mayor, City of Winchester, 15 North Cameron Street, Winchester, VA 22601. | City Hall, 15 North Cameron Street, Winchester, VA 22601. | https://msc.fema.gov/portal/advanceSearch. | Oct. 19, 2020 | 510173
Frederick | Unincorporated areas of Frederick County (20-03-0437P). | The Honorable Charles S. DeHaven, Jr., Chairman-at-Large, Frederick County, Board of Supervisors, 107 North Kent Street, Winchester, VA 22601. | Frederick County Zoning Department, 107 North Kent Street, Winchester, VA 22601. | https://msc.fema.gov/portal/advanceSearch. | Oct. 19, 2020 | 510063
Washington DC | District of Columbia (20-03-0337P). | The Honorable Muriel Bowser, Mayor, District of Columbia, 1350 Pennsylvania Avenue Northwest, Washington, DC 20004. | Department of Energy and Environment, 1200 1st Street Northeast, Suite 500, Washington, DC 20002. | https://msc.fema.gov/portal/advanceSearch. | Oct. 19, 2020 | 110001

[FR Doc. 2020-16091 Filed 7-23-20; 8:45 am]

BILLING CODE 9110-12-P